DEPARTMENT OF LABOR

Employment and Training Administration

[OMB Number: OMB 1205-0464]

Comment Request for Information Collection for YouthBuild (YB) Reporting System, Extension Without Revisions

AGENCY: Employment and Training Administration, Labor.

ACTION: Notice.

SUMMARY: The Department of Labor, as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data regarding the Youth Build Reporting System (expires May 31, 2015).

A copy of the proposed information collection request (ICR) can be obtained by contacting the office listed below in the ADDRESSES section of this notice.

DATES: Written comments must be submitted to the office listed in the addressee's section below on or before May 26, 2015.

ADDRESSES: Submit written comments to Jenn Smith, Room N-4511, Employment and Training Administration, 200 Constitution Avenue NW., Washington, DC 20210. Telephone number: 202-693-3597 (this is not a toll-free number). Fax: 202-693-3113. Email: smith.jenn@dol.gov.

SUPPLEMENTARY INFORMATION:

I. Background

This is a request for the Department of Labor, Employment and Training Administration's (ETA) to extend the reporting and recordkeeping requirements of the YouthBuild (YB) program. This reporting structure features standardized data collection for program participants through quarterly Management Information System (MIS) performance reports and Wok Site Description and Housing Census report formats. All data collection and reporting is done by YouthBuild grantees.

The quarterly performance report (ETA-9136) includes aggregate and participant-level information on demographic characteristics, types of services received, placements, outcomes, and follow-up status. Specifically, these reports collect data on individuals who receive education, occupational skill training, leadership development services, and other services essential to preparing at-risk youth for in-demand occupations through YouthBuild programs. There are no changes proposed for ETA-9136 in this information collection request package. The Work Site Description and Housing Census (ETA-9143) requests information on the proposed work sites for low-income or homeless individual or families on which YouthBuild participants will be trained and participate in construction skills activities. This form also requests annual information on the number of houses or apartments that were built or renovated each year and allows ETA to demonstrate on an annual basis the increase in affordable housing units supported by YouthBuild.

The accuracy, reliability, and comparability of program reports submitted by grantees using federal funds are fundamental elements of good public administration and are necessary tools for maintaining and demonstrating system integrity. The use of a standard set of data elements, definitions, and specifications at all levels of the workforce system helps improve the quality of performance information that is received by ETA.

II. Review Focus

The Department of Labor is particularly interested in comments which:

* Evaluate whether the proposed collection of information is necessary for the proper performance of the functions of the agency, including whether the information will have practical utility;

* evaluate the accuracy of the agency's estimate of the burden of the proposed collection of information, including the validity of the methodology and assumptions used;

* enhance the quality, utility, and clarity of the information to be collected; and

* minimize the burden of the collection of information on those who are to respond, including through the use of appropriate automated, electronic, mechanical, or other technological collection techniques or other forms of information technology, e.g., permitting electronic submissions of responses.

III. Current Actions

Type of Review: Extension without revisions.

Title: YouthBuild (YB) Reporting System.

OMB Number: OMB 1205-0464.

Affected Public: Grantees—Not for Profit institutions.

Form(s): ETA 9136, YB Quarterly Performance Report and ETA-9143, Work Site Description.

Form/activity | Total respondents | Frequency | Total annual responses | Average time per response (hours) | Total annual burden hours
Participant Data Collection | 6,000 youth participants | Collected by grantees, continual | 6,000 | 1.8 | 10,800
Quarterly narrative progress report | 200 grantees | Quarterly | 800 | 16 | 12,800
Quarterly performance report. ETA-9138 | 200 grantees | Quarterly | 800 | 16 | 12,800
ETA-9143—Work Site Description Parts A and B (Prospective Applicants) | 425 * prospective applicants | Annual competitions | 425 | .5 | 212.5
ETA-9143—Work Site Description Parts A and B (Existing Grantees) | 200 grantees | Annually | 200 | .5 | 100
ETA-9143—Housing Census Part C (Existing Grantees) | 200 grantees | Annually | 200 | .5 | 100
Totals | 200 grantees |  | 8,425 |  | 36,812.5
* Based on the average number (425 per year) of applications received in ETA's last three YouthBuild competitions.

Total Annual Respondents: 625.

Annual Frequency: Annually and quarterly.

Total Annual Responses: 8,425.

Average Time per Response: 1.5.

Estimated Total Annual Burden Hours: 36,812.5.

Total Annual Burden Cost for Respondents: $0.

Comments submitted in response to this comment request will be summarized and/or included in the request for Office of Management and Budget approval of the information collection request; they will also become a matter of public record.

Portia Wu,
Assistant Secretary, Employment and Training Administration.

[FR Doc. 2015-06859 Filed 3-25-15; 8:45 am]

BILLING CODE 4510-FT-P